DEPARTMENT OF ENERGY

Federal Energy Regulatory Commission

Combined Notice of Filings

Take notice that the Commission has received the following Natural Gas Pipeline Rate and Refund Report filings:

Filings Instituting Proceedings

Docket Numbers: PR25-71-000.

Applicants: Mid Continent Market Center, L.L.C.

Description: § 284.123(g) Rate Filing: MCMC 2025 Periodic Rate Review to be effective 10/1/2025.

Filed Date: 9/29/25.

Accession Number: 20250929-5111.

Comment Date: 5 p.m. ET 10/20/25.

§ 284.123(g) Protest: 5 p.m. ET 11/28/25.

Docket Numbers: RP25-1168-000.

Applicants: Alliance Pipeline L.P.

Description: § 4(d) Rate Filing: APL 2025 Fuel Filing to be effective 11/1/2025.

Filed Date: 9/29/25.

Accession Number: 20250929-5150.

Comment Date: 5 p.m. ET 10/14/25.

Docket Numbers: RP25-1169-000.

Applicants: Algonquin Gas Transmission, LLC.

Description: Compliance filing: AGT September 2025 OFO Penalty Disbursement Report to be effectiveN/A.

Filed Date: 9/29/25.

Accession Number: 20250929-5164.

Comment Date: 5 p.m. ET 10/14/25.

Docket Numbers: RP25-1170-000.

Applicants: Southern Natural Gas Company, L.L.C.

Description: § 4(d) Rate Filing: SNG NRA Filing—September 2025 to be effective 10/1/2025.

Filed Date: 9/29/25.

Accession Number: 20250929-5170.

Comment Date: 5 p.m. ET 10/14/25.

Docket Numbers: RP25-1171-000.

Applicants: El Paso Natural Gas Company, L.L.C.

Description: § 4(d) Rate Filing: Negotiated Rate Agreement (Eco Energy Update Nov 25 #617531-FT1EPNG) to be effective 11/1/2025.

Filed Date: 9/29/25.

Accession Number: 20250929-5186.

Comment Date: 5 p.m. ET 10/14/25.

Docket Numbers: RP25-1172-000.

Applicants: El Paso Natural Gas Company, L.L.C.

Description: § 4(d) Rate Filing: Negotiated Rate Agreement Update (Hartree Oct 25) to be effective 10/1/2025.

Filed Date: 9/29/25.

Accession Number: 20250929-5196.

Comment Date: 5 p.m. ET 10/14/25.

Docket Numbers: RP25-1173-000.

Applicants: El Paso Natural Gas Company, L.L.C.

Description: § 4(d) Rate Filing: Negotiated Rate Agreements Update (Sempra Oct 2025) to be effective 10/1/2025.

Filed Date: 9/29/25.

Accession Number: 20250929-5231.

Comment Date: 5 p.m. ET 10/14/25.

Docket Numbers: RP25-1174-000.

Applicants: El Paso Natural Gas Company, L.L.C.

Description: § 4(d) Rate Filing: Negotiated Rate Agreements Filing (SWG Morgan Stanley) to be effective 11/1/2025.

Filed Date: 9/29/25.

Accession Number: 20250929-5237.

Comment Date: 5 p.m. ET 10/14/25.

Docket Numbers: RP25-1175-000.

Applicants: Equitrans, L.P.

Description: § 4(d) Rate Filing: Formula Based Negotiated Rate—10/1/2025 Update to be effective 10/1/2025.

Filed Date: 9/30/25.

Accession Number: 20250930-5010.

Comment Date: 5 p.m. ET 10/14/25.

Docket Numbers: RP25-1176-000.

Applicants: Equitrans, L.P.

Description: § 4(d) Rate Filing: Negotiated Rate Agreements—10/1/2025 to be effective 10/1/2025.

Filed Date: 9/30/25.

Accession Number: 20250930-5011.

Comment Date: 5 p.m. ET 10/14/25.

Docket Numbers: RP25-1177-000.

Applicants: Eastern Gas Transmission and Storage, Inc.

Description: § 4(d) Rate Filing: EGTS—2025 Annual EPCA to be effective 11/1/2025.

Filed Date: 9/30/25.

Accession Number: 20250930-5042.

Comment Date: 5 p.m. ET 10/14/25.

Docket Numbers: RP25-1178-000.

Applicants: Eastern Gas Transmission and Storage, Inc.

Description: § 4(d) Rate Filing: EGTS—2025 Annual TCRA to be effective 11/1/2025.

Filed Date: 9/30/25.

Accession Number: 20250930-5043.

Comment Date: 5 p.m. ET 10/14/25.

Docket Numbers: RP25-1179-000.

Applicants: Eastern Gas Transmission and Storage, Inc.

Description: § 4(d) Rate Filing: EGTS—25.09.30 Nonconforming Agreement to be effective 11/1/2025.

Filed Date: 9/30/25.

Accession Number: 20250930-5044.

Comment Date: 5 p.m. ET 10/14/25.

Docket Numbers: RP25-1180-000.

Applicants: Carolina Gas Transmission, LLC.

Description: § 4(d) Rate Filing: CGT—2025 FRQ and TDA Report to be effective 11/1/2025.

Filed Date: 9/30/25.

Accession Number: 20250930-5045.

Comment Date: 5 p.m. ET 10/14/25.

Docket Numbers: RP25-1181-000.

Applicants: Enable Mississippi River Transmission, LLC.

Description: § 4(d) Rate Filing: 2025 MRT Annual Fuel Filing to be effective 11/1/2025.

Filed Date: 9/30/25.

Accession Number: 20250930-5046.

Comment Date: 5 p.m. ET 10/14/25.

Docket Numbers: RP25-1182-000.

Applicants: Panhandle Eastern Pipe Line Company, LP.

Description: § 4(d) Rate Filing: Fuel Filing on 9-30-25 to be effective 11/1/2025.

Filed Date: 9/30/25.

Accession Number: 20250930-5048.

Comment Date: 5 p.m. ET 10/14/25.

Docket Numbers: RP25-1183-000.

Applicants: Rover Pipeline LLC.

Description: § 4(d) Rate Filing: Fuel Filing on 9-30-25 to be effective 11/1/2025.

Filed Date: 9/30/25.

Accession Number: 20250930-5050.

Comment Date: 5 p.m. ET 10/14/25.

Docket Numbers: RP25-1184-000.

Applicants: Trunkline Gas Company, LLC.

Description: § 4(d) Rate Filing: Fuel Filing on 9-30-25 to be effective 11/1/2025.

Filed Date: 9/30/25.

Accession Number: 20250930-5055.

Comment Date: 5 p.m. ET 10/14/25.

Docket Numbers: RP25-1185-000.

Applicants: Trunkline Gas Company, LLC.

Description: Compliance filing: Annual Report of Flow Through filed 9-30-25 to be effective N/A.

Filed Date: 9/30/25.

Accession Number: 20250930-5058.

Comment Date: 5 p.m. ET 10/14/25.

Docket Numbers: RP25-1186-000.

Applicants: National Fuel Gas Supply Corporation.

Description: § 4(d) Rate Filing: Termination of Transportation Cost Adjustments (TSCA) Mechanism to be effective 10/31/2025.

Filed Date: 9/30/25.

Accession Number: 20250930-5061.

Comment Date: 5 p.m. ET 10/14/25.

Docket Numbers: RP25-1187-000.

Applicants: Enable Gas Transmission, LLC.

Description: § 4(d) Rate Filing: Fuel Tracker Filing—Effective November 1, 2025 to be effective 11/1/2025.

Filed Date: 9/30/25.

Accession Number: 20250930-5069.

Comment Date: 5 p.m. ET 10/14/25.

Docket Numbers: RP25-1188-000.

Applicants: Natural Gas Pipeline Company of America LLC.

Description: § 4(d) Rate Filing: Non-Conforming NRA Filing-Citadel Energy Mktg. LLC to be effective 11/1/2025.

Filed Date: 9/30/25.

Accession Number: 20250930-5108.

Comment Date: 5 p.m. ET 10/14/25.

Docket Numbers: RP25-1190-000.

Applicants: MountainWest Overthrust Pipeline, LLC.

Description: § 4(d) Rate Filing: Statement of Negotiated Rates Version 21 to be effective 10/1/2025.

Filed Date: 9/30/25.

Accession Number: 20250930-5173.

Comment Date: 5 p.m. ET 10/14/25.

Docket Numbers: RP25-1191-000.

Applicants: Wyoming Interstate Company, L.L.C.

Description: Compliance filing: Operational Purchase and Sale Report 2025 to be effective N/A.

Filed Date: 9/30/25.

Accession Number: 20250930-5181.

Comment Date: 5 p.m. ET 10/14/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 30, 2025.
Debbie-Anne A. Reese,
Secretary.

[FR Doc. 2025-20617 Filed 11-20-25; 8:45 am]

BILLING CODE 6717-01-P